COMMISSION ON CIVIL RIGHTS

Sunshine Act Notice

AGENCY: United States Commission on Civil Rights.

ACTION: Notice of meeting.

DATE AND TIME: Monday, March 30, 2009; 11:30 a.m. EDT.

PLACE: Via Teleconference, Public Dial In—1-800-597-7623, Conference ID # 91116969.

Meeting Agenda

This meeting is open to the public.

I. Approval of Agenda.

II. Staff Director's Report.

• Update on FY09 Appropriation.

• Update on Statutory Report Status.

III. Program Planning.

• Motion to Respond to EEOC's February 6, 2009 Letter Regarding English-in-the-Workplace Document Request.

• Motion to Collect & Make Public Data on Federal Government's Civil Rights Enforcement Efforts.

IV. State Advisory Committee Issues.

• Georgia SAC.

V. Adjourn.

FOR FURTHER INFORMATION CONTACT: Lenore Ostrowsky, Acting Chief, Public Affairs Unit (202) 376-8582. TDD: (202) 376-8116.

Persons with a disability requiring special services, such as an interpreter for the hearing impaired, should contact Pamela Dunston at least seven days prior to the meeting at 202-376-8105. TDD: (202) 376-8116.

Dated: March 18, 2009.
David Blackwood,
General Counsel.

[FR Doc. E9-6321 Filed 3-18-09; 4:15 pm]

BILLING CODE 6335-01-P